DEPARTMENT OF HOMELAND SECURITY

[Docket No. DHS-2010-0004]

National Protection and Programs Directorate; Communications Unit Leader (COML) Prerequisite and Evaluation

AGENCY: National Protection and Programs Directorate, Department of Homeland Security.

ACTION: 60-Day Notice and request for comments; New Information Collection Request: 1670-NEW.

SUMMARY: The Department of Homeland Security, National Protection and Programs Directorate/Cybersecurity and Communications/Office of Emergency Communications (OEC), has submitted the following Information Collection Request (ICR) to the Office of Management and Budget (OMB) for review and clearance in accordance with the Paperwork Reduction Act of 1995 (Pub. L. 104-13, 44 U.S.C. Chapter 35).

DATES: Comments are encouraged and will be accepted until April 5, 2010. This process is conducted in accordance with 5 CFR 1320.1.

ADDRESSES: Written comments and questions about this Information Collection Request should be forwarded to OEC, Attn.: Jonathan Clinton, Jonathan.Clinton@dhs.gov. Written comments should reach the contact person listed no later than April 5, 2010. Comments must be identified by DHS-2010-0004 and may be submitted by one of the following methods:

• Federal eRulemaking Portal: http://www.regulations.gov.

• E-mail: Jonathan.Clinton@dhs.gov. Include the docket number in the subject line of the message.

Instructions: All submissions received must include the words “Department of Homeland Security” and the docket number for this action. Comments received will be posted without alteration at http://www.regulations.gov, including any personal information provided.

SUPPLEMENTARY INFORMATION: OEC, formed under Title XVIII of the Homeland Security Act of 2002, 6 U.S.C. 101 et seq., as amended, is responsible for conducting nationwide outreach and providing technical assistance to foster the development of interoperable emergency communications capabilities for State, regional, local, and tribal governments. OEC is addressing these responsibilities, in part, by offering an All Hazards Type III COML training course for State, regional, and local emergency response stakeholders. Participation in these courses requires satisfaction of several prerequisites, the completion of which will be verified using a certification form. In addition, to evaluate course delivery for quality assurance and improvement purposes, evaluation data will be collected in an evaluation form. OEC will use this information to identify course attendees, verify satisfaction of course prerequisites, and evaluate course delivery for quality and improvement purposes. The collection of information is mostly electronic but can also be received in paper form to facilitate ease of registration and evaluation of OEC events. Evaluation forms will be available in hard copy at each training session, and time will be provided to complete the evaluation at the conclusion of the course.

OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: COML Prerequisite and Evaluation.

Form: Not Applicable.

OMB Number: 1670-NEW.

Frequency: On occasion.

Affected Public: State, local, or tribal government.

Number of Respondents: 3,000.

Estimated Time per Respondent: 15 minutes.

Total Burden Hours: 2,000 annual burden hours.

Total Burden Cost (capital/startup): $0.

Total Burden Cost (operating/maintaining): $48,840.00.

Dated: January 28, 2010.
Thomas Chase Garwood, III,
Chief Information Officer, National Protection and Programs Directorate, Department of Homeland Security.

[FR Doc. 2010-2298 Filed 2-2-10; 8:45 am]

BILLING CODE 9110-9P-P